DEPARTMENT OF HOMELAND SECURITY

Coast Guard

33 CFR Part 117

[CGD01-04-142]

Drawbridge Operation Regulations: Connecticut River, CT

AGENCY: Coast Guard, DHS.

ACTION: Notice of temporary deviation from regulations.

SUMMARY: The Commander, First Coast Guard District, has issued a temporary deviation from the drawbridge operation regulations for the Amtrak Old Saybrook-Old Lyme Bridge, mile 3.4, across the Connecticut River, Connecticut. This deviation from the regulations allows the bridge owner to require a twelve-hour advance notice for bridge openings between 6 p.m. and 6 a.m. from 10 p.m. on January 14, 2005 through 10 a.m. on February 14, 2005. This deviation is necessary in order to facilitate necessary inspection and repairs at the bridge.

DATES: This deviation is effective from January 14, 2005 through February 14, 2005.

FOR FURTHER INFORMATION CONTACT: Judy Leung-Yee, Project Officer, First Coast Guard District, at (212) 668-7195.

SUPPLEMENTARY INFORMATION: The Old Saybrook-Old Lyme Bridge, at mile 3.4, across the Connecticut River has a vertical clearance in the closed position of 19 feet at mean high water and 22 feet at mean low water. The existing drawbridge operating regulations are listed at 33 CFR 117.205(b).

The owner of the bridge, National Railroad Passenger Corporation (Amtrak), requested a temporary deviation from the drawbridge operating regulations to facilitate electrical maintenance repairs at the bridge.

This deviation to the operating regulations allows the bridge owner to require at least a twelve-hour advance notice for bridge openings at the Old Saybrook-Old Lyme Bridge between 6 p.m. and 6 a.m. from 10 p.m. on January 14, 2005 through 10 a.m. on February 14, 2005.

In accordance with 33 CFR 117.35(c), this work will be performed with all due speed in order to return the bridge to normal operation as soon as possible. This deviation from the operating regulations is authorized under 33 CFR 117.35.

Dated: November 22, 2004.
David P. Pekoske,
Rear Admiral, U.S. Coast Guard, Commander, First Coast Guard District.

[FR Doc. 04-26747 Filed 12-3-04; 8:45 am]

BILLING CODE 4910-15-P